DEPARTMENT OF AGRICULTURE

Forest Service

Kenai Peninsula-Anchorage Borough Resource Advisory Committee

AGENCY: Forest Service, USDA.

ACTION: Notice of meetings.

SUMMARY: The Kenai Peninsula-Anchorage Borough Resource Advisory Committee (RAC) will meet in Portage, Alaska. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meetings are open to the public. The purpose of the meetings is to monitor current projects and the review and recommendation of new projects.

DATES: The meetings will be held at 10:00 a.m. on the following dates:

• July 12, 2014

• July 19, 2014

• July 26, 2014

All RAC meetings are subject to cancellation. For status of meeting prior to attendance, please contact the person listed under FOR FURTHER INFORMATION CONTACT.

ADDRESSES: The meetings will be held at Begich Boggs Visitor Center, 800 Portage Lake Loop, Portage, Alaska. If you are not able to meet in person, you can still participate via teleconference, by contacting the person listed FOR FURTHER INFORMATION CONTACT.

Written comments may be submitted as described under SUPPLEMENTARY INFORMATION. All comments, including names and addresses when provided, are placed in the record and are available for public inspection and copying. The public may inspect comments received at Glacier Ranger District. Please call ahead to facilitate entry into the building.

FOR FURTHER INFORMATION CONTACT: April Dent, RAC Coordinator, by phone at 907-754-2313, or via email at aprilmdent@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: Additional RAC information, including the meeting agenda and the meeting summary/minutes can be found at the following Web site: https://fsplaces.fs.fed.us/fsfiles/unit/wo/secure_rural_schools.nsf. The agenda will include time for people to make oral statements of three minutes or less. Individuals wishing to make an oral statement should request in writing by July 8, 2014 to be scheduled on the agenda. Anyone who would like to bring related matters to the attention of the committee may file written statements with the committee staff before or after the meeting. Written comments and requests for time for oral comments must be sent to Tim Charnon, District Ranger, Glacier Ranger District, P.O. Box 129, Girdwood, Alaska 99587; by email to tcharnon@fs.fed.us or via facsimile to (907) 783-2094.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: June 5, 2014.
Peter Keller,
Acting Forest Supervisor.

[FR Doc. 2014-13708 Filed 6-11-14; 8:45 am]

BILLING CODE 3411-15-P